DEPARTMENT OF ENERGY

Federal Energy Regulatory Commission

[Project No. 1895-007, South Carolina]

South Carolina Electric & Gas Company; Notice of Availability of Final Environmental Assessment

May 3, 2002.

In accordance with the National Environmental Policy Act of 1969 and the Federal Energy Regulatory Commission's (Commission) regulations, 18 CFR part 380 (Order No. 486, 52 FR 47897), the Office of Energy Projects has reviewed the application for license for the Columbia Hydroelectric Project, located on the Broad and Congaree Rivers in the City of Columbia and Richland County, South Carolina, and has prepared a Final Environmental Assessment (FEA) for the project. There are no federal lands or Indian reservations occupied by project works or located within the project boundary.

The FEA contains the staff's analysis of the potential environmental impacts of the project and concludes that licensing the project, with appropriate environmental protective measures, would not constitute a major federal action that would significantly affect the quality of the human environment.

A copy of the FEA is on file with the Commission and is available for public inspection. The FEA may also be viewed on the Web at http://www.ferc.gov using the “RIMS” link—select “Docket #” and follow the instructions (call 202-208-2222 for assistance).

For further information, contact Charles Hall at (202) 219-2853.

Magalie R. Salas,
Secretary.

[FR Doc. 02-11595 Filed 5-8-02; 8:45 am]

BILLING CODE 6717-01-P